DEPARTMENT OF EDUCATION

[Docket No. ED-2020-SCC-0048]

Agency Information Collection Activities; Comment Request; RSA-227, Annual Client Assistance Program Performance Report

AGENCY: Office of Special Education and Rehabilitative Services (OSERS), Department of Education (ED).

ACTION: Notice.

SUMMARY: In accordance with the Paperwork Reduction Act of 1995, ED is proposing an extension of an existing information collection.

DATES: Interested persons are invited to submit comments on or before May 18, 2020.

ADDRESSES: To access and review all the documents related to the information collection listed in this notice, please use http://www.regulations.gov by searching the Docket ID number ED-2020-SCC-0048. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W-208D, Washington, DC 20202-4537.

FOR FURTHER INFORMATION CONTACT: For specific questions related to collection activities, please contact April Trice, 202-245-6074.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: RSA-227, Annual Client Assistance Program Performance Report.

OMB Control Number: 1820-0528.

Type of Review: An extension of an existing information collection.

Respondents/Affected Public: State, Local, and Tribal Governments.

Total Estimated Number of Annual Responses: 57.

Total Estimated Number of Annual Burden Hours: 912.

Abstract: The Client Assistance Program (CAP) Annual Performance Report (Form RSA-227) will be used to analyze and evaluate the CAP program administered by eligible grantees in states. CAP grantees provide information to individuals with disabilities regarding the services and benefits available under the Rehabilitation Act of 1973 (Rehabilitation Act), as amended by Title IV of the Workforce Innovation and Opportunity Act (WIOA) and the rights afforded them under Title I of the Americans with Disabilities Act. In addition, CAP grantees are authorized to provide advocacy and legal representation to individuals seeking or receiving services under the Rehabilitation Act, in order to resolve disputes with programs providing such services, including vocational rehabilitation services. RSA uses the form to meet specific data collection requirements of Section 112 of the Rehabilitation Act and its implementing Federal Regulations at 34 CFR part 370. CAP grantees must report annually using the RSA-227, which is due on or before December 30 each year.

The collection of information through Form RSA-227 has enabled RSA to furnish the President and Congress with data on the provision of client assistance services and has helped to establish a sound basis for future funding requests. Data is used to indicate trends in the provision of services from year-to-year, as well as evaluate the effectiveness of eligible grantees within individual states in meeting annual priorities and objectives.

The respondents to the RSA-227 is the client assistance program in each year. RSA received recommendations on the initial development of the RSA-227, including the frequency of reporting, from the National Disability Rights Network (NDRN), CAP programs, and other advocacy groups to ensure that the information requested could be provided with minimal burden to the respondents.

Dated: March 13, 2020.
Kate Mullan,
PRA Coordinator, Strategic Collections and Clearance, Governance and Strategy Division, Office of Chief Data Officer.

[FR Doc. 2020-05635 Filed 3-17-20; 8:45 am]

BILLING CODE 4000-01-P